TENNESSEE VALLEY AUTHORITY

Environmental Impact Statement for Gallatin Fossil Plant Surface Impoundment Closure and Restoration Project

AGENCY: Tennessee Valley Authority.

ACTION: Notice of intent.

SUMMARY: The Tennessee Valley Authority (TVA) intends to prepare an Environmental Impact Statement (EIS) to address the potential environmental effects associated with management of coal combustion residual (CCR) material at the Gallatin Fossil Plant (GAF) located near Gallatin in Sumner County, Tennessee. The purpose of the EIS is to address the final disposition of CCR onsite at GAF, support TVA's goal to eliminate wet CCR storage at its plants, and assist TVA in complying with the U.S. Environmental Protection Agency's (EPA's) CCR Rule. The proposed actions would also provide long-term on-site landfill space for operations and/or storage of CCR. TVA will develop and evaluate various alternatives for these actions, including the No Action Alternative. Public comments are invited concerning both the scope of the review and environmental issues that should be addressed.

DATES: Comments on the scope of the EIS must be received on or before January 11, 2019.

ADDRESSES: Comments may be submitted in writing to Ashley Farless, NEPA Specialist, 1101 Market Street, BR4A-C, Chattanooga, TN, 37402. Comments may also be submitted online at: https://www.tva.gov/nepa or by email to CCR@tva.gov.

FOR FURTHER INFORMATION CONTACT: Other related questions should be sent to Tennessee Valley Authority, Ashley Farless, NEPA Specialist, 1101 Market Street, BR4A-C, Chattanooga, TN, 37402, Phone 423.751.2361 or arfarless@tva.gov.

SUPPLEMENTARY INFORMATION: This notice is provided in accordance with the Council on Environmental Quality's regulations (40 CFR parts 1500 to 1508) for implementing the National Environmental Policy Act (NEPA), TVA's procedures for implementing NEPA, and Section 106 of the National Historic Preservation Act (NHPA) and its implementing regulations (36 CFR part 800).

TVA Power System and CCR Management

TVA is a corporate agency and instrumentality of the United States created by and existing pursuant to the TVA Act of 1933 that provides electricity for business customers and local power distributors. TVA serves more than 9 million people in parts of seven southeastern states. TVA receives no taxpayer funding, deriving virtually all of its revenues from sales of electricity. In addition to operating and investing its revenues in its electric system, TVA provides flood control, navigation and land management for the Tennessee River system and assists local power companies and state and local governments with economic development and job creation.

The GAF is located in Sumner County, Tennessee, on 1,950 acres of land on the north bank of the Cumberland River. The plant has four turbo-generating units with a combined summer net generating capacity of 976 megawatts. The plant consumes an average of 3.5 million tons of coal per year which results in the annual production of approximately 255,000 tons of CCR. This CCR is the byproduct produced from burning coal and includes fly ash, bottom ash, boiler slag, and flue gas desulfurization materials. Historically, GAF stored CCR wet in onsite surface impoundments (commonly referred to as ash ponds). Bottom ash and boiler slag are the only remaining CCRs currently sent to the ponds. Newly installed air emission controls at GAF allow the majority of CCR to be stored dry in the North Rail Loop Landfill located at GAF, a state-of-the-art lined and state permitted facility. When the construction of a new bottom ash dewatering facility is finished in 2020, the plant will have completed its transition from wet CCR handling to dry handling of all CCR.

Background

In July 2009, the TVA Board of Directors passed a resolution for staff to review TVA practices for storing CCRs at its generating facilities, including GAF, which resulted in a recommendation to convert the wet ash management system at GAF to a dry storage system. On April 17, 2015, the EPA published the final Disposal of CCRs from Electric Utilities rule, also known as the CCR Rule.

In June 2016, TVA issued a Final Programmatic Environmental Impact Statement (PEIS) that analyzed methods for closing CCR impoundments at TVA fossil plants and identified specific screening and evaluation factors to help frame its evaluation of closures at its other facilities. A Record of Decision was released in July 2016 that would allow future environmental reviews of qualifying CCR impoundment closures to tier from the PEIS. This PEIS can be found at www.tva.com/nepa.

Alternatives

The EIS will examine closure of the following surface impoundments: Ash Pond A, Ash Pond E, Middle Pond A and a Non-Registered Site. In addition, TVA will examine removal of CCR from on-site Stilling Ponds and permanent disposition of CCR from the Bottom Ash Pond at Gallatin. TVA is performing a separate NEPA review for a project at Gallatin that could result in a temporary stockpile of CCR from the Bottom Ash Pond in the on-site landfill (North Rail Loop Landfill). The Bottom Ash Pond CCR would be temporarily stockpiled to make the most efficient use of property at GAF. Whether the Bottom Ash Pond CCR remains in its current location onsite at GAF or is temporarily stockpiled to allow TVA to make use of real estate available onsite, the final disposition of the Bottom Ash Pond CCR will be addressed in this EIS. Construction of a new on-site landfill will be examined as well as construction of a CCR beneficial re-use facility.

In addition to a No Action Alternative, this EIS will address alternatives that meet the purpose and need for the project. One alternative identified by TVA is closure of all surface impoundments and stilling ponds via closure-by-removal with construction of a new on-site landfill. The CCR material removed in this closure-by-removal alternative would be disposed of in a new on-site landfill and/or a beneficial re-use facility. Another alternative identified by TVA is closure of all surface impoundments and stilling ponds via closure-in-place with construction of a new on-site landfill that would be used to support ongoing long-term plant operations. TVA could also consider a combination closure-in-place and closure-by-removal alternative(s).

No decision has been made about CCR storage at GAF beyond the current operations. TVA is preparing this EIS to inform decision makers, other agencies and the public about the potential for environmental impacts associated with management of CCR at GAF.

Proposed Resources and Issues To Be Considered

This EIS will identify the purpose and need of the project and will contain descriptions of the existing environmental and socioeconomic resources within the area that could be affected by management of CCR at GAF. Evaluation of potential environmental impacts to these resources will include, but not be limited to, water quality, aquatic and terrestrial ecology, threatened and endangered species, wetlands, land use, historic and archaeological resources, solid and hazardous waste, safety, and socioeconomic and environmental justice issues. The final range of issues to be addressed in the environmental review will be determined, in part, from scoping comments received. The preliminary identification of reasonable alternatives and environmental issues in this notice is not meant to be exhaustive or final.

Public Participation

TVA is interested in an open process and wants to hear from the community. The public is invited to submit comments on the scope of this EIS no later than the date identified in the “Dates” section of this notice. Federal, state, local agencies and Native American Tribes are invited to provide comments.

After consideration of comments received during the scoping period, TVA will develop and distribute a scoping document that will summarize public and agency comments that were received and identify the schedule for completing the EIS process. Following analysis of the issues, TVA will prepare a draft EIS for public review and comment. In making its final decision, TVA will consider the analyses in this EIS and substantive comments that it receives. A final decision on proceeding with the management and storage of CCRs at GAF will depend on a number of factors. These include results of the EIS, requirements of the CCR Rule, relevant state law requirements, engineering and risk evaluations, financial considerations, as well as the resolution of ongoing litigation concerning Gallatin.

TVA anticipates holding a community meeting near the plant after releasing the Draft EIS. Meeting details will be posted on TVA's website. TVA expects to release the Draft EIS in the Fall 2019.

Authority: 40 CFR 1501.7.

M. Susan Smelley,
Director, Environmental Compliance and Operations.

[FR Doc. 2018-26531 Filed 12-6-18; 8:45 am]

BILLING CODE 8120-08-P